DEPARTMENT OF HEALTH AND HUMAN SERVICES

Health Resources and Services Administration

Healthy Tomorrows Partnership for Children Program

AGENCY: Health Resources and Services Administration, HHS.

ACTION: Notice of a Noncompetitive Replacement Award to the University of Nevada School of Medicine, Department of Pediatrics.

SUMMARY: The Health Resources and Services Administration (HRSA) will transfer remaining Special Projects of Regional and National Significance (SPRANS) discretionary grant funds in H17MC08971 from the Southern Nevada Area Health Education Center, the current grantee of record, to the University of Nevada School of Medicine, Department of Pediatrics, in order to continue Healthy Tomorrows supported prevention and intervention services to low-income, underserved women, children and adolescents in Clark County and Southern Nevada.

SUPPLEMENTARY INFORMATION:

Former Grantee of Record: Southern Nevada Area Health Education Center.

Original Period of Grant Support: Healthy Tomorrows Partnership for Children Program—March 1, 2008 to February 28, 2013.

Replacement Awardee: The University of Nevada School of Medicine, Department of Pediatrics.

Amount of Replacement Award: $100,000 (remaining two years of grant, Year 4 and Year 5).

Period of Replacement Award: The period of support for this award is March 1, 2011 to February 28, 2013.

Authority: Social Security Act as amended, Title V, Section 501(a)(2), (42 U.S.C. 701(a)(2)).

CFDA Number: 93.110.

Justification for the Exception to Competition: The former grantee, Southern Nevada Area Health Education Center, relinquished all grants due to financial difficulties and closure of facilities and programs. The Maternal and Child Health Bureau (MCHB) has identified the University of Nevada School of Medicine, Department of Pediatrics as the best qualified grantee for this replacement award because: the University of Nevada School of Medicine, Department of Pediatrics maintains an on-going partnership with the original grantee, the Southern Nevada Area Health Education Center; the original Project Director has a clinical appointment with the Department of Pediatrics; the Department of Pediatrics is maintaining the project despite not having access to grant funds; and obstetrical care for pregnant women occurs at a clinic jointly run by the Department of Pediatrics and the Department of Family and Community Medicine. Transferring funds to the Department of Pediatrics will not change the project as originally proposed and funded, as it still serves the intended target population, maintains partnerships with many of the community organizations discussed in the original application and proposes to enhance services with the addition of the Project Outreach Coordinator. In sum, the Department of Pediatrics has the capacity to provide an array of Healthy Tomorrows supported prevention and intervention services to the target population and to fulfill the expectations of the originally funded grant application.

This grant transfer will ensure that prevention and intervention services remain available for approximately 100 African American, Hispanic, and/or American Indian pregnant women in Clark County and Southern Nevada and their children; launch a community-wide, bi-lingual program of culturally competent public education and awareness services to recruit and enroll at least 100 women into the Nevada Care Program; and maintain the Nevada Care Program Screening Clinic to monitor the health and development of infants born to pregnant women enrolled in the program. Not ensuring continued funding to provide these services would have a substantially negative impact on the healthcare needs of this population, while continued funding to the Department of Pediatrics will ensure that these critical services remain available to address the demonstrated needs of low-income, underserved women, children and adolescents in Clark County and Southern Nevada.

FOR FURTHER INFORMATION CONTACT: Madhavi Reddy via e-mail at mreddy@hrsa.gov or via phone at 301-443-0754.

Dated: May 17, 2011.
Mary K. Wakefield,
Administrator.

[FR Doc. 2011-12655 Filed 5-20-11; 8:45 am]

BILLING CODE 4165-15-P